DEPARTMENT OF COMMERCE

International Trade Administration

[A-580-809]

Circular Welded Non-Alloy Steel Pipe From the Republic of Korea: Preliminary Results of Antidumping Duty Administrative Review; 2020-2021

AGENCY: Enforcement and Compliance, International Trade Administration, Department of Commerce.

SUMMARY: The U.S. Department of Commerce (Commerce) preliminarily determines that circular welded non-alloy steel pipe (CWP) from the Republic of Korea (Korea) was sold at prices below normal value for Husteel Co., Ltd. (Husteel) and not sold at prices below normal value for Nexteel Co., Ltd. (Nexteel) during the period of review (POR) November 1, 2020, through October 31, 2021. We invite interested parties to comment on these preliminary results.

DATES: Applicable December 5, 2022.

FOR FURTHER INFORMATION CONTACT: Dusten Hom and Byeong-hun You, AD/CVD Operations, Office I, Enforcement and Compliance, International Trade Administration, U.S. Department of Commerce, 1401 Constitution Avenue NW, Washington, DC 20230; telephone: (202) 482-5075 and (202)-482-1018, respectively.

SUPPLEMENTARY INFORMATION:

Background

Commerce is conducting an administrative review of the antidumping duty order on CWP from Korea, in accordance with section 751(a) of the Tariff Act of 1930, as amended (the Act).¹ On December 28, 2021, in accordance with 19 CFR 351.221(c)(1)(i), we initiated the administrative review ² of the Order covering 24 producers and/or exporters, including mandatory respondents, Husteel and Nexteel.³ The remaining companies were not selected for individual examination and remain subject to this administrative review. For a complete description of the events that followed the initiation of this review, see the Preliminary Decision Memorandum.⁴

¹ See Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992) (Order).

² See Initiation of Antidumping and Countervailing Duty Administrative Reviews, 86 FR 73734 (December 28, 2021).

³ See Memorandum, “Antidumping Duty Administrative Review of Circular Welded Non-Alloy Steel Pipe from the Republic of Korea: Respondent Selection,” dated February 2, 2022.

⁴ See Memorandum, “Decision Memorandum for the Preliminary Results of Antidumping Duty Administrative Review and Preliminary Determination of No Shipments: Circular Welded Non-Alloy Steel Pipe from the Republic of Korea; 2020-2021,” dated concurrently with, and hereby adopted by, this notice (Preliminary Decision Memorandum).

On July 14, 2022, Commerce extended the time limit for issuing the preliminary results of this review by 120 days, to no later than November 30, 2022.⁵

⁵ See Memorandum, “Circular Welded Non-Alloy Steel Pipe from the Republic of Korea: Extension of Deadline for Preliminary Results of 2019-2020 Antidumping Administrative Review,” dated July 14, 2022.

Scope of the Order

The merchandise subject to the Order is CWP from Korea. A full description of the scope, see the Preliminary Decision Memorandum.⁶

⁶ For a full description of the scope of the Order, see Preliminary Decision Memorandum.

Methodology

Commerce is conducting this review in accordance with section 751(a) of the Act. For a full description of the methodology underlying these preliminary results, see the Preliminary Decision Memorandum. A list of the topics discussed in the Preliminary Decision Memorandum is included as Appendix I to this notice. The Preliminary Decision Memorandum is a public document and is on file electronically via Enforcement and Compliance's Antidumping and Countervailing Duty Centralized Electronic Service System (ACCESS). ACESS is available to registered users at http://access.trade.gov. In addition, a complete version of the Preliminary Decision Memorandum can be accessed directly at https://access.trade.gov/public/FRNoticesListLayout.aspx.

Rate for Non-Selected Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

In this review, we have preliminarily calculated weighted-average dumping margins of 13.72 percent for Husteel and 0.00 percent for Nexteel. For the companies that were not selected for individual review, we preliminarily assigned a rate based on the rates for the respondents that were selected for individual review, excluding rates that are zero, de minimis, or based entirely on facts available.⁷ In accordance with the U.S. Court of Appeals for the Federal Circuit's decision in Albemarle, we are applying to the twenty-two companies that had reviewable transactions during the POR the 13.72 percent rate calculated for Husteel.⁸ This is the only rate determined in this review that is not zero, de minimis, or based entirely on facts available for individual respondents and, thus, should be applied to the twenty-two firms not selected for individual review under section 735(c)(5)(B) of the Act.

⁷ See section 735(c)(5)(A) of the Act.

⁸ See Albemarle Corp. v. United States, 821 F.3d 1345 (Fed. Cir. 2016) (Albemarle).

Preliminary Results of the Administrative Review

Commerce preliminarily determines that the following weighted-average dumping margins exist for the administrative review covering the period November 1, 2020, through October 31, 2021:

⁹ See Appendix II for a full list of these companies.

Producer/exporter | Weighted- average dumping margin (percent)
Husteel Co., Ltd | 13.72
NEXTEEL Co., Ltd | 0.00 (de minimis).
Review-Specific Average Rate Applicable to the Following Companies
Other Respondents ⁹ | 13.72

Disclosure

We intend to disclose the calculations performed in connection with these preliminary results to interested parties within five days after the date of publication of this notice in accordance with 19 CFR 351.224(b).

Public Comment

Pursuant to 19 CFR 351.309(c), interested parties may submit case briefs not later than 30 days after the date of publication of this notice. Rebuttal briefs, limited to issues raised in the case briefs, may be filed not later than seven days after the date for filing case briefs.¹⁰ Commerce modified certain of its requirements for serving documents containing business proprietary information until further notice.¹¹ Parties who submit case briefs or rebuttal briefs in this proceeding are encouraged to submit with each argument: (1) a statement of the issue, (2) a brief summary of the argument, and (3) a table of authorities.¹²

¹⁰ See 19 CFR 351.309(d).

¹¹ See Temporary Rule Modifying AD/CVD Service Requirements Due to COVID-19; Extension of Effective Period, 85 FR 41363 (July 10, 2020).

¹² See 19 CFR 351.309(c)(2) and (d)(2).

Pursuant to 19 CFR 351.310(c), interested parties who wish to request a hearing, must submit a written request to the Assistant Secretary for Enforcement and Compliance, filed electronically via ACCESS. An electronically filed request for a hearing must be received successfully in its entirety by Commerce's electronic records system, ACCESS, by 5:00 p.m. Eastern Time within 30 days after the date of publication of this notice.¹³ Requests should contain: (1) the party's name, address, and telephone number; (2) the number of participants; and (3) a list of issues to be discussed. If a request for a hearing is made, Commerce intends to hold the hearing at a time and date to be determined. Issues raised in the hearing will be limited to those raised in the briefs.

¹³ See 19 CFR 351.310(c); see also 19 CFR 351.303(b)(1).

Unless the deadline is extended, Commerce intends to issue the final results of this review, including the results of its analysis of issues raised by parties in their comments, within 120 days after the publication of these preliminary results, pursuant to section 751(a)(3)(A) of the Act and 19 CFR 351.213(h).

Assessment Rates

Upon issuing the final results, Commerce will determine, and Customs and Border Protection (CBP) shall assess, antidumping duties on all appropriate entries covered by this review. If an examined respondent's weighted-average dumping margin is above de minimis (i.e., 0.50 percent) in the final results of this review, we will calculate importer-specific ad valorem antidumping duty assessment rates based on the ratio of the total amount of dumping calculated for the importer's examined U.S. sales and, where possible, the total entered value of those same sales in accordance with 19 CFR 351.212(b)(1).¹⁴ We will instruct CBP to assess antidumping duties on all appropriate entries covered by this review when the importer-specific assessment rate calculated in the final results of this review is above de minimis. Where either the respondent's weighted-average dumping margin is zero or de minimis within the meaning of 19 CFR 351.106(c)(1), or an importer-specific assessment rate is zero or de minimis, we will instruct CBP to liquidate the appropriate entries without regard to antidumping duties.

¹⁴ See Antidumping Proceedings: Calculation of the Weighted-Average Dumping Margin and Assessment Rate in Certain Antidumping Proceedings: Final Modification, 77 FR 8101, 8103 (February 14, 2012).

For entries of subject merchandise during the POR produced by Husteel or Nexteel for which they did not know that the merchandise was destined for the United States, we will instruct CBP to liquidate those entries at the all-others rate if there is no rate for the intermediate company(ies) involved in the transaction.¹⁵

¹⁵ For a full discussion of this practice, see Antidumping and Countervailing Duty Proceedings: Assessment of Antidumping Duties, 68 FR 23954 (May 6, 2003).

For the companies that were not selected for individual examination, we will instruct CBP to assess antidumping duties at an ad valorem rate equal to each company's weighted-average dumping margin determined in the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective upon publication in the Federal Register of the notice of final results of administrative review for all shipments of CWP from Korea entered, or withdrawn from warehouse, for consumption on or after the date of publication as provided by section 751(a)(2) of the Act: (1) the cash deposit rate for companies subject to this review will be the rates established in the final results of this administrative review; (2) for merchandise exported by a company not covered in this review but covered in a prior segment of the proceeding, the cash deposit rate will continue to be the company-specific rate published for the most recent period; (3) if the exporter is not a firm covered in this review, a prior review, or the original investigation but the producer is, then the cash deposit rate will be the rate established for the most recent period for the producer of the merchandise; (4) the cash deposit rate for all other producers or exporters will continue to be 4.80 percent,¹⁶ the all-others rate established in the less-than-fair-value investigation. These cash deposit requirements, when imposed, shall remain in effect until further notice.

¹⁶ See Order.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

Commerce is issuing and publishing the preliminary results of this review in accordance with sections 751(a)(1) and 777(i) of the Act, and 19 CFR 351.221(b)(4).

Dated: November 29, 2022.
Lisa W. Wang,
Assistant Secretary for Enforcement and Compliance.

Appendix I—List of Topics Discussed in the Preliminary Decision

Memorandum

I. Summary

II. Background

III. Scope of the Order

IV. Rate for Non-Selected Companies

V. Affiliation

VI. Discussion of the Methodology

VII. Export Price and Constructed Export Price

VIII. Normal Value

IX. Currency Conversion

X. Recommendation

Appendix II—List of Companies Not Individually Examined

1. Aju Besteel

2. Bookook Steel

3. Chang Won Bending

4. Dae Ryung

5. Daewoo Shipbuilding & Marine Engineering (Dsme)

6. Daiduck Piping

7. Dong Yang Steel Pipe

8. Dongbu Steel ¹⁷

¹⁷ This company is also known as Dongbu Steel Co., Ltd.

9. Eew Korea Company

10. Histeel ¹⁸

¹⁸ This company is also known as HiSteel Co., Ltd.

11. Hyundai Rb

12. Hyundai Steel Company ¹⁹

¹⁹ This company is also known as Hyundai Steel Corporation; Hyundai Steel; and Hyundai Steel (Pipe Division).

13. Kiduck Industries

14. Kum Kang Kind

15. Kumsoo Connecting

16. Miju Steel Mfg.²⁰

²⁰ This company is also known as Miju Steel Manufacturing.

17. Samkang M&T

18. Seah Fs

19. Seah Steel ²¹

²¹ This company is also known as Seah Steel Corporation.

20. Steel Flower

21. Vesta Co., Ltd.

22. Ycp Co.

[FR Doc. 2022-26403 Filed 12-2-22; 8:45 am]

BILLING CODE 3510-DS-P